DEPARTMENT OF JUSTICE

Notice of Lodging of Consent Decree Pursuant to the Comprehensive Environmental Response, Compensation, and Liability Act

In accordance with Departmental policy, the Department of Justice gives notice that a proposed consent decree in the case captioned United States and the State of Indiana v. The Dow Chemical Company, Civil Action No. IP001841-C-T/G (S.D. Ind.), was lodged with the United States District Court for the Southern District of Indiana, Indianapolis Division, on November 27, 2000, pertaining to the Dow Chemical Site (the “Site”), located near Zionsville, in Boone County, Indiana. The proposed consent decree would resolve certain civil claims of the United States and the State of Indiana against The Dow Chemical Company (“Dow”) under Section 107 of the Comprehensive Environmental Response, Compensation, and Liability Act, as amended (“CERCLA”), 42 U.S.C. 9607, for damages for injury to, destruction of, or loss of natural resources resulting from releases of hazardous substances from the Site.

Under the proposed consent decree, Dow would donate an uncontaminated northern portion of the Site—comprising approximately 17 acres of floodplain habitat along Eagle Creek—to the Zionsville Park and Recreation Board (an agency of the Town of Zionsville, Indiana) for the purpose of restoration, replacement, or protection of natural resources similar to those found on other portions of the Site damaged by releases and threatened releases of hazardous substances. Pursuant to a conservation easement and declaration of restrictive covenants enforceable by the State of Indiana's Department of Natural Resources, the Eagle Creek property would be preserved in perpetuity for specified conservation—and recreation-related purposes.

The Department of Justice will receive comments relating to the proposed consent decree for a period of thirty (30) days from the date of this publication. Comments should be addressed to the Assistant Attorney General, Environment and Natural Resources Division, United States Department of Justice, Washington, DC 20530, and should refer to United States and the State of Indiana v. The Dow Chemical Company, Civil Action No. IP001841-C-T/G (S.D. Ind.) and DOJ Reference No. 90-11-3-07049.

The proposed consent decree may be examined by appointment at the Office of the United States Attorney for the Southern District of Indiana, 10 West Market Street, Suite 2100, Indianapolis, Indiana 46204 (contact Harold Bickham (317-226-6333)). A copy of the proposed consent decree may also be obtained by mail from the Department of Justice Consent Decree Library, P.O. Box 7611, Washington, DC 20044. In requesting copies, please refer to the referenced case and DOJ Reference Number, and enclose a check for $10.25 (41 pages at 25 cents per page reproduction cost), made payable to the Consent Decree Library.

Bruce S. Gelber,
Chief, Environmental Enforcement Section, Environment and Natural Resources Division.

[FR Doc. 00-31262 Filed 12-7-00; 8:45 am]

BILLING CODE 4410-15-M